DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Region Permit Family of Forms.

Form Number(s): None.

OMB Approval Number: 0648-0490.

Type of Request: Regular submission.

Burden Hours: 157.

Number of Respondents: 232.

Average Hours Per Response: Hawaii longline limited entry permit, Western Pacific bottomfish, lobster, longline general and receiving vessel permits, 30 minutes; Northwest Hawaiian Islands bottomfish permit, 1 hour; American Samoa longline limited entry permit, 45 minutes; permit appeals, 2 hours; and shallow-set certificate request, 10 minutes.

Needs and Uses: This collection is needed to assist with the administration and evaluation of the NOAA Community-based Restoration Program (CRP), which has provided financial assistance on a competitive basis to over 1,200 habitat restoration projects since 1996. The information is used to provide accountability for the CRP and NOAA on the expenditure of federal funds used for restoration, contributes to the Government Performance and Results Act (GPRA) “acres restored” measure and to the President's Wetlands Initiative goal of 3 million acres of wetland restoration, enhancement and protection by 2010. Information is required only from parties receiving CRP funds. Fishermen in Federally-managed fisheries in the Western Pacific region are required to maintain valid fishing permits on-board their vessels at all times. The permits are renewed annually and are needed to identify participants in the fisheries. Permits are also important to help measure impacts of management controls on the participants in the fisheries of the U.S. exclusive economic zone (EEZ) in the Western Pacific.

Affected Public: Business or other for-profit organizations; individuals or households.

Frequency: Annually, on occasion and variable.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: January 24, 2007.
Gwellnar Banks,
Management Analyst, Office of the Chief Information Officer.

[FR Doc. E7-1430 Filed 1-29-07; 8:45 am]

BILLING CODE 3510-22-P